DEPARTMENT OF ENERGY

Federal Energy Regulatory Commission

Combined Notice of Filings #1

Take notice that the Commission received the following electric corporate filings:

Docket Numbers: EC14-150-000.

Applicants: Arlington Wind Power Project LLC, Blue Canyon Windpower V LLC, Cloud County Wind Farm, LLC, Headwaters Wind Farm LLC, Paulding Wind Farm II LLC, Pioneer Prairie Wind Farm I, LLC, Rising Tree Wind Farm LLC, Rising Tree Wind Farm II LLC, Fiera Axium Nove AcquisitionCo LLC.

Description: Application for Authorization for Disposition of Jurisdictional Facilities and Request for Expedited Action of Arlington Wind Power Project LLC, et al.

Filed Date: 9/29/14.

Accession Number: 20140929-5345.

Comments Due: 5 p.m. ET 10/20/14.

Take notice that the Commission received the following electric rate filings:

Docket Numbers: ER14-2245-000.

Applicants: TriEagle Energy, LP.

Description: eTariff filing per 35.19a(b): Refund Report Compliance Filing to be effective N/A.

Filed Date: 9/29/14.

Accession Number: 20140929-5326.

Comments Due: 5 p.m. ET 10/20/14.

Docket Numbers: ER14-2309-000.

Applicants: Lea Power Partners, LLC.

Description: Supplement to June 30, 2014 Lea Power Partners, LLC Triennial Update Market Power Analysis Filing for NE Region & Tariff Amendment.

Filed Date: 9/25/14.

Accession Number: 20140925-5117.

Comments Due: 5 p.m. ET 10/6/14.

Docket Numbers: ER14-2960-000.

Applicants: Midcontinent Independent System Operator, Inc.

Description: § 205(d) rate filing per 35.13(a)(2)(iii): 2014-09-29_SA 2702 ATC-Wisconsin River Power Co. GIA (Petenwell) to be effective 9/30/2014.

Filed Date: 9/29/14.

Accession Number: 20140929-5304.

Comments Due: 5 p.m. ET 10/20/14.

Docket Numbers: ER14-2961-000.

Applicants: PacifiCorp.

Description: § 205(d) rate filing per 35.13(a)(2)(iii): BPA Construction Agmt (USBR Green Springs) to be effective 11/29/2014.

Filed Date: 9/29/14.

Accession Number: 20140929-5306.

Comments Due: 5 p.m. ET 10/20/14.

Docket Numbers: ER14-2962-000.

Applicants: Midcontinent Independent System Operator, Inc.

Description: § 205(d) rate filing per 35.13(a)(2)(iii): 2014-09-29_SA 743 ATC-WPSC Amended Generation-Transmission Agreement to be effective 9/30/2014.

Filed Date: 9/29/14.

Accession Number: 20140929-5310.

Comments Due: 5 p.m. ET 10/20/14.

Docket Numbers: ER14-2963-000.

Applicants: California Independent System Operator Corporation.

Description: § 205(d) rate filing per 35.13(a)(2)(iii): 2014-09-29_AnnualOperationsReviewElimination to be effective 11/29/2014.

Filed Date: 9/29/14.

Accession Number: 20140929-5321.

Comments Due: 5 p.m. ET 10/20/14.

Docket Numbers: ER14-2964-000.

Applicants: Tampa Electric Company.

Description: Notice of Cancellations of Rate Schedules FERC Nos. 41 and 45 of with City of Lakeland, Florida of Tampa Electric Company.

Filed Date: 9/29/14.

Accession Number: 20140929-5343.

Comments Due: 5 p.m. ET 10/20/14.

Docket Numbers: ER14-2965-000.

Applicants: Arizona Public Service Company.

Description: Notice of Cancellation of Service Agreement Nos. 123 and 124 with Coral Power of Arizona Public Service Company.

Filed Date: 9/29/14.

Accession Number: 20140929-5347.

Comments Due: 5 p.m. ET 10/20/14.

Take notice that the Commission received the following PURPA 210(m)(3) filings:

Docket Numbers: QM14-3-000.

Applicants: Entergy Arkansas, Inc., Entergy Gulf States Louisiana, L.L.C., Entergy Louisiana, LLC, Entergy Mississippi, Inc., Entergy New Orleans, Inc., Entergy Services, Inc., Entergy Texas, Inc., Entergy Services, Inc.

Description: Application Under PURPA Section 210(m) of Entergy Services, Inc., et al.

Filed Date: 9/29/14.

Accession Number: 20140929-5374.

Comments Due: 5 p.m. ET 10/27/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 30, 2014.
Nathaniel J. Davis, Sr.,
Deputy Secretary.

[FR Doc. 2014-23918 Filed 10-6-14; 8:45 am]

BILLING CODE 6717-01-P